DEPARTMENT OF TRANSPORTATION

Research and Innovative Technology Administration

[Docket No. BTS-2005-22232]

Notice of Request for Clearance of a New Information Collection: Omnibus Household Survey Program

AGENCY: Bureau of Transportation Statistics (BTS), Research and Innovative Technology Administration (RITA), DOT.

ACTION: Notice and request for comments.

SUMMARY: In accordance with the requirements of section 3506(c)(2)(A) of the Paperwork Reduction Act of 1995, this notice announces the intention of the BTS to request the Office of Management and Budget's (OMB's) approval for a new information collection related to the use of and satisfaction with the nation's transportation system.

DATES: Comments must be submitted on or before April 13, 2007.

ADDRESSES: You can mail or hand-deliver comments to the U.S. Department of Transportation (DOT), Dockets Management System (DMS). You may submit your comments by mail or in person to the Docket Clerk, Docket No. BTS-2005-22232, U.S. Department of Transportation, 400 Seventh Street, SW., Room PL-401, Washington, DC 20590-0001. Comments should identify the docket number; paper comments should be submitted in duplicate. The DMS is open for examination and copying, at the above address, from 9 a.m. to 5 p.m., Monday through Friday, except federal holidays. If you wish to receive confirmation of receipt of your written comments, please include a self-addressed, stamped postcard with the following statement: “Comments on Docket BTS-2005-22232.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251.

If you wish to file comments using the Internet, you may use the DOT DMS Web site at http://dms.dot.gov. Please follow the online instructions for submitting an electronic comment. You can also review comments on-line at the DMS Web site at http://dms.dot.gov. The electronic docket is available 24 hours each day, 365 days each year. Please follow the instructions online for more information and help. An electronic copy of this document may be downloaded using a modem and suitable communications software from the Government Printing Office Electronic Bulletin Board Service at telephone number 202-512-1661. Internet users may reach the Federal Register's home page at http://www.gpoaccess.gov/fr/index.html and the Government Printing Office's database at http://www.gpoaccess.gov/nara/index.html.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://dms.dot.gov.

FOR FURTHER INFORMATION CONTACT: Ms. June Taylor Jones, (202) 366-4743, Passenger Travel Program Manager, BTS, RITA, Department of Transportation, 400 Seventh Street, SW., Washington, DC 20590. Office hours are from 7:30 a.m. to 5 p.m., E.T., Monday through Friday, except Federal holidays.

SUPPLEMENTARY INFORMATION: Title: Omnibus Household Survey Program.

Background: In 2005, Congress passed, and the President signed, the Safe, Accountable, Flexible, Efficient Transportation Equity Act: A Legacy for Users (SAFETEA-LU; Pub. L. 109-59). SAFETEA-LU contained a number of legislative mandates including providing data, statistics and analyses to transportation decision-makers. The Research and Innovative Technology Administration, Bureau of Transportation Statistics (RITA/BTS) was tasked to accomplish this legislative mandate under 49 U.S.C. 111(c)(1). RITA/BTS plans to use the Omnibus Household Survey (OHS) to:

• Assess the public's evaluation of the nation's transportation system in light of the DOT's strategic goals (safety, reduced congestion, global connectivity, environmental stewardship and security, preparedness and response),

•Provide a vehicle for the operating administrations within the DOT as well as other governmental agencies, to survey the public about current transportation issues, and

•Provide national estimates of transportation mode usage.

Each version of the OHS will focus on some subset of topics taken from the list below. Topics may vary from survey to survey since covering all topics in one questionnaire would make the respondent burden unacceptable:

Frequency of mode use in the month prior to the survey month: Commercial air, Privately-owned vehicle, Taxi, Light rail, Commuter rail, Public bus, Intercity Rail (Amtrak), Other modes such as biking and walking.

Confidence in the safety of the following modes of transportation: Commercial air, Privately-owned vehicle, Taxi, Light rail, Commuter rail, Water transportation (taxis, ferries, ships), Public bus, Intercity Rail (Amtrak), Other modes such as biking/walking/ferries.

Confidence in the security procedures for the following modes of transportation: Commercial air, Charter/general aviation, Privately-owned vehicle, Taxi, Light rail, Commuter rail, Water transportation (taxis, ferries, ships), Public bus, Intercity Rail (Amtrak).

Assessment of/satisfaction with security procedures for the following modes of transportation: Commercial air, Charter/general aviation, Privately-owned vehicle, Taxi, Light rail, Commuter rail, Water transportation (taxis, ferries, ships), Public bus, Intercity Rail (Amtrak).

Processing through security at: Commercial airports, Train stations, Waterway entry points for ferries, water taxis, cruises.

Knowledge of/confidence in the Registered Traveler Program: Knowledge of Registered Traveler Program, Have used Registered Traveler Program, Confidence in Registered Traveler Program.

Knowledge of current check-in procedures at: Commercial airports, Train stations, Waterway entry points for ferries, water taxis, cruises.

Knowledge of/confidence in the Alien Flight Student Program and TSA Vetting Programs.

Experiences with transit delays related to suspicious/unattended baggage.

Willingness/tolerance of transportation security risk management procedures.

In formation on journey to work

Transportation used (single mode/multiple mode)

Time required for one-way trip

Number of days traveled

Assessment of congestion

Methods for dealing with congestion

Telecommuting information, Commuting costs

Availability of transportation subsidies.

Impact of congestion on commute.

Impact of fuel costs on transportation use/travel behavior.

Impact of on-line shopping on passenger and freight travel.

Respondents: The population for the OHS Program is the non-institutionalized population, aged 18 and older, who live in the United States. The sampling frame will be a list-assisted random digit dialing (RDD) sample of U.S. residential telephone numbers. The sampling frame will be constructed to produce samples proportional to population density, resulting in nationally representative samples of residential telephone numbers. Individual survey respondents within selected households will be chosen at random.

Estimated Average Burden per Response: The burden per respondent is estimated to be an average of 15 minutes based on calculations from previous data collections.

Estimated Total Annual Burden: The total annual burden is estimated to be 250 hours (that is 15 minutes times 1000 respondents equals 15,000 minutes or 250 hours).

Frequency: This survey is currently scheduled to be conducted yearly but may be conducted as much as 3 times per year based on data needs of agencies using the OHS for data collection.

Public Comments Invited: Interested parties are invited to send comments regarding any aspect of this information collection, including, but not limited to: (1) The necessity and utility of the information collection for the proper performance of the functions of the DOT; (2) the accuracy of the estimated burden; (3) ways to enhance the quality, utility, and clarity of the collected information; and (4) ways to minimize the collection burden without reducing the quality of the collected information. Comments submitted in response to this notice will be summarized and/or included in the request for OMB's clearance of this information collection.

Authority: Sections 1801(e) and 5601 of the Safe, Accountable, Flexible, Efficient Transportation Equity Act: A Legacy for Users (P.L. 109-59; 2005) and 49 CFR 1.46.

Issued in Washington, DC on the 6th day of February, 2007.
William Bannister,
Acting Deputy Director, Bureau of Transportation Statistics, Research and Innovative Technology Administration.

[FR Doc. E7-2336 Filed 2-9-07; 8:45 am]

BILLING CODE 4910-HY-P